NUCLEAR REGULATORY COMMISSION

[NRC-2019-0132]

Standard Review Plan for Spent Fuel Transportation

AGENCY: Nuclear Regulatory Commission.

ACTION: Draft NUREG; request for comment.

SUMMARY: The U.S. Nuclear Regulatory Commission (NRC) requests public comment on draft NUREG-2216, Revision 0, “Standard Review Plan for Spent Fuel Transportation”. This Standard Review Plan (SRP) provides guidance to NRC staff for reviewing an application for package approval. NRC approval of a package design typically results in issuance of a certificate of compliance (CoC) or a letter amendment for a transportation package. This draft SRP will replace NUREG-1609, “Standard Review Plan for Transportation Packages for Radioactive Material”, NUREG-1617, “Standard Review Plan for Transportation Packages for Spent Nuclear Fuel”, and all Interim Staff Guidance (ISGs) that were used to enhance these NUREGs.

DATES: Submit comments by September 30, 2019. Comments received after this date will be considered if it is practical to do so, but the Commission is able to ensure consideration only for comments received before this date.

ADDRESSES: You may submit comments by any of the following methods:

• Federal Rulemaking website: Go to https://www.regulations.gov and search for Docket ID NRC-2019-0132. Address questions about NRC docket IDs in Regulations.gov to Jennifer Borges; telephone: 301-287-9127; email: Jennifer.Borges@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Jeremy Smith, Office of Nuclear Material Safety and Safeguards, U.S. Nuclear Regulatory Commission, Washington, DC 20555-0001; telephone: 301-415-7308; email: Jeremy.Smith@nrc.gov.

SUPPLEMENTARY INFORMATION:

I. Obtaining Information and Submitting Comments

A. Obtaining Information

Please refer to Docket ID NRC-2019-0132 when contacting the NRC about the availability of information regarding this document. You may obtain publicly-available information related to this document using any of the following methods:

• Federal Rulemaking website: Go to https://www.regulations.gov; and search for Docket ID NRC-2019-0132.

• NRC's Agencywide Documents Access and Management System (ADAMS): You may obtain publicly-available documents online in the ADAMS Public Documents collection at https://www.nrc.gov/reading-rm/adams.html. To begin the search select “Begin Web-based ADAMS Search.” For problems with ADAMS, please contact the NRC's Public Document Room (PDR) reference staff at 1-800-397-4209, 301-415-4737, or by email to pdr.resource@nrc.gov. Draft NUREG-2216, Revision 0, “Standard Review Plan for Spent Fuel Transportation” is available in ADAMS under Accession No. ML19214A229.

• NRC'S PDR: You may examine and purchase copies of public documents at the NRC's PDR, Room O1-F21, One White Flint North, 11555 Rockville Pike, Rockville, Maryland 20852.

B. Submitting Comments

Please include Docket ID NRC-2019-0132 in your comment submission.

The NRC cautions you not to include identifying or contact information that you do not want to be publicly disclosed in your comment submission. The NRC will post all comment submissions at https://www.regulations.gov/ as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

The NRC utilizes information that is currently contained in multiple documents (NUREG-1609, NUREG-1617, and numerous ISGs) to assist the NRC staff in its reviews of packages containing radioactive material. The NRC's intent in combining and updating these documents into one document is to assist NRC staff in its reviews by promoting a consistent regulatory review of transportation packages; by promoting quality and uniformity of these reviews across each technical discipline; presenting a basis for the review's scope; identifying acceptable approaches to meeting regulatory requirements; and suggesting possible evaluation findings that can be used in the safety evaluation report for applications submitted under part 71 of title 10 of the Code of Federal Regulations (10 CFR).

III. Discussion

This SRP provides guidance to the NRC staff for reviewing an application for a package approval issued under 10 CFR part 71, “Packaging and Transportation of Radioactive Material.” NRC approval of a package design typically results in issuance of a CoC or a letter amendment for a transportation package.

The objectives of this SRP are to assist the NRC staff in its reviews by:

• Providing a basis that promotes uniform quality and a consistent regulatory review of an application for a CoC for a transportation package.

• presenting a basis for the review's scope.

• identifying acceptable approaches to meeting regulatory requirements.

• suggesting possible evaluation findings that can be used in the safety evaluation report.

This SRP may be revised and updated as the need arises on a chapter-by-chapter basis to clarify the content, correct errors, or incorporate modifications approved by the Director of the NRC Division of Spent Fuel Management.

Proposed Action

By this action, the NRC is requesting public comments on draft NUREG-2216, Revision 0. The NRC invites comments on all portions of this Standard Review Plan that the commenter thinks the NRC should consider. The NRC will make a final determination regarding issuance of the NUREG after it considers any public comments received in response to this request.

Dated at Rockville, Maryland, this 12th day of August, 2019.
For the Nuclear Regulatory Commission.
Michael C. Layton,
Director, Division of Spent Fuel Management, Office of Nuclear Material Safety and Safeguards.

[FR Doc. 2019-17584 Filed 8-15-19; 8:45 am]

BILLING CODE 7590-01-P